DEPARTMENT OF COMMERCE

International Trade Administration

Illinois Institute of Technology; Notice of Decision on Application; for Duty-Free Entry of Scientific Instruments

This is a decision pursuant to section 6(c) of the Educational, Scientific, and Cultural Materials Importation Act of 1966 (Pub. L. 89-651, as amended by Pub. L. 106-36; 80 Stat. 897; 15 CFR part 301). Related records can be viewed between 8:30 a.m. and 5:00 p.m. in Room 2104, U.S. Department of Commerce, 14th and Constitution Ave, NW., Washington, DC.

Comments: None received. Decision: Approved. We know of no instrument of equivalent scientific value to the foreign instruments described below, for such purposes as each is intended to be used, that was being manufactured in the United States at the time of its order.

Docket Number: 07-056. Applicant: Illinois Institute of Technology, Chicago, IL. Instrument: Micro Test Pendulum with Hot-Stage Extension & Spherical Indenters. Manufacturer: Micro Materials Ltd., United Kingdom. Intended Use: See notice at 72 FR 52084, September 12, 2007. Reason: The instrument must be capable of testing materials at temperatures in excess of 700 °C or at a load capacity of 10kN. Both of these features are critical in the assessment of mechanical properties of high strength materials at elevated temperatures.

Dated: October 3, 2007.
Faye Robinson,
Director, Statutory Import Programs Staff, Import Administration.

[FR Doc. E7-19825 Filed 10-5-07; 8:45 am]

BILLING CODE 3510-DS-P